DEPARTMENT OF JUSTICE

Notice of Lodging of Consent Decree Under the Comprehensive Environmental Response, Compensation and Liability Act

In accordance with Departmental Policy, 28 U.S.C. 50.7, notice is hereby given that on June 26, 2003, a proposed Consent Decree in United States v. Tifa Realty, Inc. and Tifa Ltd., Civil Action No. 03-3056 (JCL) was lodged with the United States District Court for the District of New Jersey.

In this action the United States, on behalf of the United States Environmental Protection Agency (“EPA”), sought cost recovery with respect to the Asbestos Dump Superfund Site, located in Long Hill Township, Morris County, New Jersey (“the Site”), under the Comprehensive Environmental Response, Compensation and Liability Act (“CERCLA”) against Tifa Realty, Inc. and Tifa Ltd. (“Tifa”). Under the terms of the proposed settlement, Tifa will pay approximately $965,000 to reimburse the United States for costs incurred by EPA at the Site. This settlement amount is based on Tifa's limited ability to pay the full amount of EPA's unreimbursed response costs. The proposed settlement also provides for payment of $1 million by the United States, on behalf of the United States Navy and the Army Corps of Engineers, to satisfy a claim for contribution under CERCLA by Tifa. This settlement amount of behalf of the Navy and Corps will also partially reimburse EPA's response costs incurred at the Site.

The Department of Justice will receive for a period of thirty (30) days from the date of this publication comments relating to the Consent Decree. Comments should be addressed to the Assistant Attorney General, Environment and Natural Resources Division, P.O. Box 7611, U.S. Department of Justice, Washington, DC 20044-7611, and should refer to United States v. Tifa Realty, Inc. and Tifa Ltd., D.J. Ref. 90-11-3-07175.

The Consent Decree may be examined at the Office of the United States Attorney, 970 Broad Street, 7th Floor, Newark, New Jersey 07102, and at U.S. EPA Region II, 290 Broadway, 17th Floor, New York, New York 10007-1866. During the public comment period, the Consent Decree, may also be examined on the following Department of Justice website, http://www.usdoj.gov/enrd/open.html. A copy of the Consent Decree may also be obtained by mail from the Consent Decree Library, P.O. Box 7611, U.S. Department of Justice, Washington, DC 20044-7611 or by faxing or e-mailing a request to Tonia Fleetwood (tonia.fleetwood@usdoj.gov), fax number (202) 514-0097, phone confirmation number (202) 514-1547. In requesting a copy from the Consent Decree Library, please enclose a check in the amount of $8.75 (25 cents per page reproduction cost) payable to the U.S. Treasury.

Ronald Gluck,
Assistant Chief, Environmental Enforcement Section, Environment and Natural Resources Division.

[FR Doc. 03-18053 Filed 7-16-03; 8:45 am]

BILLING CODE 4410-15-M